DEPARTMENT OF TRANSPORTATION

Federal Aviation Administration

14 CFR Part 39

[Docket No. 2001-NM-349-AD; Amendment 39-12526; AD 2001-23-51]

RIN 2120-AA64

Airworthiness Directives; Airbus Model A300 B4-600, B4-600R, and F4-600R (Collectively Called A300-600) Series Airplanes; and Model A310 Series Airplanes

AGENCY: Federal Aviation Administration, DOT.

ACTION: Final rule; request for comments.

SUMMARY: This document publishes in the Federal Register an amendment adopting airworthiness directive (AD) 2001-23-51 that was sent previously to all known U.S. owners and operators of certain Airbus Model A300 B4-600, B4-600R, and F4-600R (collectively called A300-600) series airplanes; and Model A310 series airplanes by individual notices. This AD requires a one-time detailed visual inspection to detect repairs and alterations to, and damage of the vertical stabilizer attachment fittings, including the main attachment lugs and the transverse (side) load fittings; and the rudder hinge fittings, hinge arms, and support fittings for all rudder hinges, and rudder actuator support fittings; and repair, if necessary. This AD also requires that operators report results of inspection findings to the FAA. This action is prompted by an airplane accident shortly after takeoff from John F. Kennedy International Airport, Jamaica, New York. The actions specified by this AD are intended to prevent failure of the vertical stabilizer-to-fuselage attachment fittings or transverse (side) load fittings, or rudder-to-vertical stabilizer attachment fittings, which could result in loss of the vertical stabilizer and/or rudder and consequent loss of control of the airplane.

DATES: Effective December 10, 2001, to all persons except those persons to whom it was made immediately effective by emergency AD 2001-23-51, issued on November 16, 2001, which contained the requirements of this amendment.

Comments for inclusion in the Rules Docket must be received on or before January 4, 2002.

ADDRESSES: Submit comments in triplicate to the Federal Aviation Administration (FAA), Transport Airplane Directorate, ANM-114, Attention: Rules Docket No. 2001-NM-349-AD, 1601 Lind Avenue, SW., Renton, Washington 98055-4056. Comments may be inspected at this location between 9:00 a.m. and 3:00 p.m., Monday through Friday, except Federal holidays. Comments may be submitted via fax to (425) 227-1232. Comments may also be sent via the Internet using the following address: 9-anm-iarcomment@faa.gov. Comments sent via fax or the Internet must contain “Docket No. 2001-NM-349-AD” in the subject line and need not be submitted in triplicate. Comments sent via the Internet as attached electronic files must be formatted in Microsoft Word 97 for Windows or ASCII text.

Information pertaining to this AD may be examined at the FAA, Transport Airplane Directorate, Rules Docket, 1601 Lind Avenue, SW., Renton, Washington.

FOR FURTHER INFORMATION CONTACT: Henry Offermann, Aerospace Engineer; Airframe and Cabin Safety Branch, ANM-115, FAA, Transport Airplane Directorate, 1601 Lind Avenue, SW., Renton, Washington; telephone (425) 227-2676; fax (425) 227-1100.

SUPPLEMENTARY INFORMATION: On November 16, 2001, the FAA issued emergency AD 2001-23-51, which is applicable to certain Airbus Model A300 B4-600, B4-600R, and F4-600R (collectively called A300-600) series airplanes; and Model A310 series airplanes airplanes.

Background

On November 12, 2001, an Airbus Model A300 B4-605R airplane was involved in an accident shortly after takeoff from John F. Kennedy International Airport, Jamaica, New York. The cause of the accident is under investigation by the National Transportation Safety Board (NTSB). Although the NTSB has not determined the cause of the accident, it has determined that the vertical stabilizer departed the airplane. In addition, the rudder was found separated from the vertical stabilizer.

The vertical stabilizer on Airbus Model A300-600 series airplanes with Airbus Modification 4886 is manufactured of advanced composite materials. The vertical stabilizer on Airbus Model A310 series airplanes with the same modification is manufactured of the same materials. Failure of the vertical stabilizer-to-fuselage attachment fittings, transverse (side) load fittings, or rudder-to-vertical stabilizer attachment fittings, if not corrected, could result in loss of the vertical stabilizer and/or rudder and consequent loss of control of the airplane.

The FAA considers that, before structural failure, it may be possible to detect indications of possible failure modes that could result in separation of the vertical stabilizer from the airplane. These indications include edge delaminations, cracked paint, surface distortions, other surface damage, and failure of the transverse (side) load fittings. Similarly, indications of failure of the rudder assembly, which could lead to failure of the vertical stabilizer, may also be detectable with such an inspection. Although neither the FAA nor the NTSB have reached conclusions with respect to these possible failures on the accident airplane, we consider it prudent to require an inspection of these structures to identify any such indication that may exist.

These airplane models are manufactured in France and are type-certificated for operation in the United States under the provisions of section 21.29 of the Federal Aviation Regulations (14 CFR 21.29) and the applicable bilateral airworthiness agreement. The FAA has coordinated this action with the Direction Generale de l'Aviation Civile (DGAC), which is the airworthiness authority for France, and the DGAC has taken similar action.

Explanation of the Requirements of the Rule

Since the unsafe condition described is likely to exist or develop on other airplanes of the same type design registered in the United States, the FAA issued emergency AD 2001-23-51 to prevent failure of the vertical stabilizer-to-fuselage attachment fittings or transverse (side) load fittings, or rudder-to-vertical stabilizer attachment fittings, which could result in loss of the vertical stabilizer and/or rudder and consequent loss of control of the airplane. The AD requires a one-time detailed visual inspection to detect repairs and alterations to, and damage of the vertical stabilizer attachment fittings, including the main attachment lugs and the transverse (side) load fittings; and the rudder hinge fittings, hinge arms, and support fittings for all rudder hinges, and rudder actuator support fittings; and repair, if necessary. Damage of the metallic areas includes pulled or loose fasteners, wear areas, distorted flanges, cracks, and corrosion. Damage of the composite areas includes delamination; distorted surfaces that may indicate delamination; cracks in the paint surface; evidence of moisture damage; and cracked, splitting, or frayed fibers. This AD also requires that operators report results of inspection findings to the FAA.

Interim Action

This is considered to be interim action. The inspection report that is required by this AD will enable the FAA, DGAC, and manufacturer to obtain better insight into the potential unsafe condition, and eventually to develop final action to address it, if necessary. If final action is identified, the FAA may consider further rulemaking.

Determination of Rule's Effective Date

Since it was found that immediate corrective action was required, notice and opportunity for prior public comment thereon were impracticable and contrary to the public interest, and good cause existed to make the AD effective immediately by individual notices issued on November 16, 2001, to all known U.S. owners and operators of certain Airbus Model A300 B4-600, B4-600R, and F4-600R (collectively called A300-600) series airplanes; and Model A310 series airplanes. These conditions still exist, and the AD is hereby published in the Federal Register as an amendment to section 39.13 of the Federal Aviation Regulations (14 CFR 39.13) to make it effective as to all persons.

Comments Invited

Although this action is in the form of a final rule that involves requirements affecting flight safety and, thus, was not preceded by notice and an opportunity for public comment, comments are invited on this rule. Interested persons are invited to comment on this rule by submitting such written data, views, or arguments as they may desire. Communications shall identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their comments submitted in response to this rule must submit a self-addressed, stamped postcard on which the following statement is made: “Comments to Docket Number 2001-NM-349-AD.” The postcard will be date stamped and returned to the commenter.

Regulatory Impact

The regulations adopted herein will not have a substantial direct effect on the States, on the relationship between the national Government and the States, or on the distribution of power and responsibilities among the various levels of government. Therefore, it is determined that this final rule does not have federalism implications under Executive Order 13132.

The FAA has determined that this regulation is an emergency regulation that must be issued immediately to correct an unsafe condition in aircraft, and that it is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

AD 2001-23-51 Airbus Industrie: Amendment 39-12526. Docket 2001-NM-349-AD.

Applicability: Model A300 B4-600, B4-600R, and F4-600R (collectively called A300-600) series airplanes; and Model A310 series airplanes; certificated in any category; having a vertical stabilizer made of composite material (reference Airbus Modification 4886).

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (e) of this AD. The request should include an assessment of the effect of the modification, alteration, or repair on the unsafe condition addressed by this AD; and, if the unsafe condition has not been eliminated, the request should include specific proposed actions to address it.

Compliance: Required as indicated, unless accomplished within the last 6 months.

To prevent failure of the vertical stabilizer-to-fuselage attachment fittings or transverse (side) load fittings, or rudder-to-vertical stabilizer attachment fittings, which could result in loss of the vertical stabilizer and/or rudder and consequent loss of control of the airplane, accomplish the following:

Compliance Time

(a) Within 15 days after the effective date of this AD, do the inspections specified in paragraphs (b) and (c) of this AD.

Note 2: For the purposes of this AD, a detailed visual inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

Inspection and Corrective Actions

(b) Perform a one-time detailed visual inspection to detect repairs and alterations to, and damage of the vertical stabilizer attachment fittings, including the main attachment lugs and the transverse (side) load fittings. Any alteration made to the composite structures, either during production or post-production, is considered areas of primary concern. Gain access to the vertical stabilizer attachment fittings by removing external fairings and internal access covers and inspect both sides of affected attachment fittings. Damage of the metallic areas includes pulled or loose fasteners, wear areas, distorted flanges, cracks, and corrosion. Damage of the composite areas includes delamination; distorted surfaces that may indicate delamination; cracks or abrading in the paint surface; surface damage; evidence of moisture damage; and cracked, splitting, or frayed fibers.

(1) If any damage is found to the vertical stabilizer attachment fittings, including the main attachment lugs and the transverse (side) load fittings, before further flight, repair per a method approved by the Manager, International Branch, ANM-116, FAA, Transport Airplane Directorate.

(2) If any repair or alteration to the attachment lug areas of the vertical stabilizer has been accomplished previously, before further flight, the repair or alteration must be approved by the Manager, International Branch, ANM-116.

(c) Perform a one-time detailed visual inspection to detect damage of the rudder hinge fittings, hinge arms, and support fittings for all rudder hinges, and rudder actuator support fittings. Damage of the metallic areas includes pulled or loose fasteners, wear areas, distorted flanges, cracks, and corrosion. Damage of the composite areas includes delamination; distorted surfaces that may indicate delamination; cracks or abrading in the paint surface; surface damage; evidence of moisture damage; and cracked, splitting, or frayed fibers. If any damage is found, before further flight, repair per the manufacturer's structural repair manual, or per a method approved by the Manager, International Branch, ANM-116.

Report

(d) Submit a report of inspection findings (both positive and negative) to the Manager, International Branch, ANM-116; fax (425) 227-1149; at the applicable time specified in paragraph (d)(1) or (d)(2) of this AD. The report must include the inspection results, a description of any repair, alteration, or discrepancy found, including digital photographs of the damaged area, the airplane serial number, and the number of flight cycles and flight hours on the airplane. Information collection requirements contained in this AD have been approved by the Office of Management and Budget (OMB) under the provisions of the Paperwork Reduction Act of 1980 (44 U.S.C. 3501 et seq.) and have been assigned OMB Control Number 2120-0056.

(1) For airplanes on which the inspection is accomplished after the effective date of this AD: Submit the report within 5 days after performing the inspection required by paragraph (a) of this AD.

(2) For airplanes on which the inspection has been accomplished prior to the effective date of this AD: Submit the report within 5 days after the effective date of this AD.

Alternative Methods of Compliance

(e) An alternative method of compliance or adjustment of the compliance time that provides an acceptable level of safety may be used if approved by the Manager, International Branch, ANM-116. Operators shall submit their requests through an appropriate FAA Principal Maintenance Inspector, who may add comments and then send it to the Manager, International Branch, ANM-116.

Note 3: Information concerning the existence of approved alternative methods of compliance with this AD, if any, may be obtained from the International Branch, ANM-116.

Special Flight Permits

(f) Special flight permits may be issued in accordance with sections 21.197 and 21.199 of the Federal Aviation Regulations (14 CFR 21.197 and 21.199) to operate the airplane to a location where the requirements of this AD can be accomplished.

Effective Date

(g) This amendment becomes effective on December 10, 2001, to all persons except those persons to whom it was made immediately effective by emergency AD 2001-23-51, issued on November 16, 2001, which contained the requirements of this amendment.

Issued in Renton, Washington, on November 26, 2001.
Vi L. Lipski,
Manager, Transport Airplane Directorate, Aircraft Certification Service.

[FR Doc. 01-30082 Filed 12-4-01; 8:45 am]

BILLING CODE 4910-13-U